DEPARTMENT OF COMMERCE

National Institute of Standards and Technology

Announcement of a Public Meeting on U.S. Technical Participation in the 12th Quadrennial Conference of the International Organization of Legal Metrology (OIML)

AGENCY: National Institute of Standards and Technology, Commerce.

ACTION: Meeting announcement and request for comments.

SUMMARY: The National Institute of Standards and Technology (NIST) will hold a public meeting to discuss U.S. technical participation in the 12th Quadrennial Conference of the International Organization of Legal Metrology (OIML). This pre-conference public meeting is open to all interested parties.

The principal focus will be on 20 OIML Recommendations on legal measuring instruments that will be presented for ratification by the Conference. These Recommendations and OIML-member nations' technical comments on them will be reviewed with interested parties who will be given an opportunity to present their views on the Recommendations and other relevant issues related to the Conference.

Participants with an expressed interest in particular topics may obtain copies of the OIML Conference technical agenda, including copies of the Recommendations to be ratified. Interested parties wishing to schedule an oral presentation at the pre-conference meeting should provide a written summary of comments to the NIST International Legal Metrology Group no later than 5 October 2004. Written comments from parties unable to attend the pre-conference public meeting are welcome at any time.

DATES: Pre-conference meeting at the National Institute of Standards and Technology: Tuesday, 12 October 2004 from 10 a.m. to 12 noon; Twelfth OIML International Conference of Legal Metrology in Berlin, Germany 24-29 October 2004.

ADDRESSES: Pre-conference meeting: National Institute of Standards and Technology (NIST North), Conference Room 152, 820 West Diamond Avenue, Gaithersburg, MD; International Conference: main venue is the Federal Ministry of Economics and Labor Conference Center in Berlin, Germany.

FOR FURTHER INFORMATION CONTACT: Mr. Ralph Richter, International Legal Metrology Group, Weights and Measures Division, National Institute of Standards and Technology, Gaithersburg, MD 20899-2600; telephone: (301) 975-4025; fax: (301) 926-0647; e-mail: ralph.richter@nist.gov.

SUPPLEMENTARY INFORMATION: The International Organization of Legal Metrology (OIML) is an intergovernmental treaty organization in which the United States and 59 other nations are members. Its principal purpose is to harmonize national laws and regulations pertaining to testing and verifying the performance of legal measuring instruments used for equity in commerce, for public and worker health and safety, and for monitoring and protecting the environment. The harmonized results promote the international trade of measuring instruments and products affected by measurement.

Twenty Recommendations will be presented for ratification by the Conference in the following two categories: (1) Those already approved by the International Committee of Legal Metrology (CIML) between 2001 and 2003; and (2) those that are expected to be submitted directly to the Conference for ratification. These Recommendations and the OIML-member nations holding the responsible secretariat for their development are listed below:

Category 1

R16 “Non-invasive Sphygmomanometers. Part 1: Mechanical; Part 2: Automated” (revision) (Austria);

R48 “Tungsten ribbon lamps for calibration of radiation thermometers.” (revision) (Russia);

R49-2 and R49-3 “Water meters intended for metering cold potable water. Part 2: Test methods. Part 3: Test report format.” (new documents) (UK);

R52 “Hexagonal weights, ordinary accuracy class from 100 g to 50 kg.” (revision) (US);

R61-1 and R61-2 “Automatic gravimetric filling instruments, Part 1: Metrological and technical requirements—Tests.” (revision) “Part 2: Test report format.” (new document) (UK);

R75-1 and R75-2 “Heat meters. Part 1: General requirements. Part 2: Pattern approval and initial verification tests.” (revision) (Germany);

R84 “Platinum, copper and nickel resistance thermometers (for industrial use).” (revision) (Russia)

R87 “Net content in packages.” (revision) (US);

R99 “Instruments for measuring vehicle exhaust emissions (joint publication with ISO 3930).” (amendment to document) (Netherlands);

R133 “Liquid-in-glass thermometers.” (new document) (US);

R134 “Automatic instruments for weighing road vehicles in motion. Part A—Total vehicle weighing.” (new document) (UK);

R135 “Spectrophotometers for medical laboratories.” (new document) (Germany)

Category 2

R51-1 and R51-2 “Automatic catchweighing instruments. Part 1: Metrological requirements—Tests.” (revision) “Part 2: Test report format.” (new document) (UK)

R111-1 and R111-2 “Weights of classes E1, E2, F1, F2, M1, M1-2, M2, M2-3, and M3. Part 1: Metrological and Technical Requirements. Part 2: Test Report Format.” (revision) (US);

Draft Recommendation “Instruments for measuring the areas of leathers. Part 1: Metrological requirements—Tests.” (new document) (UK)

Dated: September 23, 2004.
Hratch G. Semerjian,
Acting Director.

[FR Doc. 04-21761 Filed 9-28-04; 8:45 am]

BILLING CODE 3510-13-P